DEPARTMENT OF COMMERCE

National Oceanic and Atmospheric Administration

[I.D. 022007E]

Antarctic Marine Living Resources Convention Act of 1984; Conservation and Management Measures

AGENCY: National Marine Fisheries Service (NMFS), National Oceanic and Atmospheric Administration (NOAA), Commerce.

ACTION: Notice.

SUMMARY: NMFS issues this notice to notify the public that the United States has accepted conservation and management measures and resolutions pertaining to fishing in Antarctic waters managed by the Commission for the Conservation of Antarctic Marine Living Resources (Commission or CCAMLR). The Commission adopted these measures at its twenty-fifth meeting in Hobart, Tasmania, October 23 to November 3, 2006. The measures have been agreed upon by the Member countries of CCAMLR, including the United States, in accordance with Article IX of the Convention for the Conservation of Antarctic Marine Living Resources (the Convention). The measures: include measures previously adopted by the Commission and remaining in force; measures adopted for the 2006/2007 fishing season to restrict overall catches, research catch and bycatch of certain species of fish, krill and crab; limit participation in several exploratory fisheries; restrict fishing in certain areas and to certain gear types; and set forth: fishing seasons fishery-by-fishery, revisions to previously adopted measures; new measures, and new resolutions. The Commission also adopted a list of vessels suspected to be engaged in illegal, unregulated or unreported fishing in the Convention Area.

ADDRESSES: Copies of the CCAMLR conservation and management measures may be obtained from the Assistant Administrator for Fisheries, NOAA, National Marine Fisheries Service, 1315 East-West Highway, Silver Spring, MD 20910.

FOR FURTHER INFORMATION CONTACT: Robin Tuttle, 301-713-2282.

SUPPLEMENTARY INFORMATION:

Background

The full text of the conservation and management measures and resolutions agreed to by consensus by CCAMLR at its 2006 meeting were published by the U.S. Department of State in a formal notice in the Federal Register on January 29, 2007 (72 FR 4068).

Public comments were invited on the notice; one comment was received. The commenter suggested that the use of gillnets and longlines be banned in the Convention Area. As indicated in the Department of State notice, CCAMLR has adopted an interim prohibition on the use of deep-sea gillnets. The prohibition will remain in force until the CCAMLR Scientific Committee has investigated and reported on the potential impacts of gillnets in the Convention Area. Regarding longline fishing, CCAMLR first adopted measures requiring fishers to employ techniques minimizing the incidental mortality of seabirds in the course of longline fishing in 1991. At its 2006 meeting, CCAMLR's Ad Hoc Working Group on Incidental Mortality Associated with Fishing noted the resulting continuing low levels of incidental mortality of seabirds in regulated longline fisheries in most parts of the Convention Area. There were no reports of incidental mortality of marine mammals in longline gear in the 2005/2006 fishing season.

Through this action, NMFS notifies the public that the United States has accepted the measures and resolutions adopted at CCAMLR's twenty-fifth meeting. NMFS provides the following summary of these measures and resolutions as a courtesy.

Prohibitions on Directed Fishing

The Commission retained the continuing prohibitions for directed fishing for finfish in Statistical Subareas 48.1 and 48.2; for Notothenia rossii in Statistical Subareas 48.1, 48.2 and 48.3; for Gobionotothen gibberifrons, Chaenocephalus aceratus, Pseudochaenicthys georgianus, Lepidonotothen squamifrons and Patagonotothen guntheri in Statistical Subareas 48.3; for Lepidonotothen squamifrons in Statistical Division 58.4.4; for Dissostichus species in Statistical Division 58.4.4 outside areas of national jurisdiction; for Dissostichus eleginoides in Statistical Subarea 58.6; for Dissostichus eleginoides in Statistical Subarea 58.7; for Dissostichus eleginoides in Statistical Division 58.5.1 outside areas of national jurisdiction; for Dissostichus eleginoides in Statistical Division 58.5.2 east of 79°20′E and outside of the EEZ to the west of 79°20′E; for Dissostichus species in Statistical Subarea 88.2 north of 65° S; for Dissostichus species in Statistical Subarea 88.3; and for Electrona carlsbergi in Statistical Subarea 48.3.

The Commission prohibited directed fishing for Dissostichus species in Subarea 48.5 during the 2006/2007 fishing season.

The Commission adopted a new measure that prohibits directed fishing on shark species in the Convention Area, other than for research purposes. Shark fishing will be prohibited at least until the status of shark populations and the effects of fishing are assessed.

Bycatch

The Commission agreed to extend the existing bycatch limits in Division 58.5.2 into the 2006/2007 season. The Commission also agreed to extend the existing bycatch limits and move-on rules for exploratory fisheries into the 2006/2007 season, taking account of the revised catch limit for Dissostichus species in Subareas 88.1 and 88.2 and the consequential change to the bycatch limits in those subareas.

The Commission adopted a measure requiring that bycatch of sharks, especially juveniles and gravid females, taken accidentally in other fisheries will, as far as possible, be released alive.

The Commission revised its resolution promoting international actions to reduce the incidental mortality of seabirds to further address fishing outside the CCAMLR Convention Area. The Commission requested that Contracting Parties engage with other Regional Fisheries Management Organizations (RFMO), strengthen input into RFMO meetings by including seabird experts on delegations and become involved in the development and implementation of seabird resolutions and other measures to reduce bycatch of albatrosses and petrels within RFMO jurisdictions. Such resolutions and measures might include mitigation measures, sharing information, exchanging observer-collected data on seabird mortalities, establishing of bycatch working groups, and evaluating fishery impacts on seabird populations. The Commission urged Contracting Parties to implement measures to reduce or eliminate seabird incidental mortality in fisheries outside the CCAMLR Convention Area; require their flagged vessels fishing in these areas to collect and report rates of incidental mortality of seabirds associated with each fishery, details of the seabird species involved, and estimate of total seabird mortality; and report to the CCAMLR Secretariat annually on the implementation of mitigation measures, including their effectiveness in reducing seabird incidental mortality.

New and Exploratory Fishing

Twelve Members submitted notifications for longline exploratory fisheries for toothfish in 2006/2007 in Subareas 48.6, 88.1, 88.2 and Divisions 58.4.1, 58.4.2, 58.4.3a and 58.4.3b. There were no notifications for new fisheries or for fisheries in closed areas.

The Commission revised the general measures for exploratory fisheries for Dissostichus species in the Convention Area for the 2006/2007 season by requiring the Flag State of the vessel fishing for Dissostichus species to assume the responsibility for tagging, tag recovery and correct reporting. The Commission clarified that the fishing vessel must cooperate with the CCAMLR scientific observer in undertaking the tagging program and further elaborated the requirements of the tagging program.

The Commission amended its measures on new and exploratory fisheries to clarify that the use of bottom trawls in high seas areas of the Convention Area is considered a new or exploratory fishery. The Commission now requires that information on the known and anticipated impacts of bottom trawls on vulnerable marine ecosystems, including on the benthos and benthic communities, must be included in the notifications of new or exploratory fisheries.

Icefish

The Commission adopted area specific conservation measures for Champsocephalus gunnari for the 2006/2007 season.

The Commission set the overall catch limit for the C. gunnari trawl fishery in Subarea 48.3 for the November 15, 2006 to November 14, 2007 season at 4,337 tons, limited the catch of this total to 1,084 tons during the spawning period (March 1, 2007 through May 31, 2007) and continued previously adopted restrictions on the fishery. The Commission endorsed the Scientific Committee's recommendation that vessels in this fishery be encouraged to use net binding as a means to reduce seabird interaction and potential incidental mortality.

The Commission set the catch limit for the C. gunnari trawl fishery within defined areas of Division 58.5.2 for the 2006/2007 season at 42 tons and retained previously adopted restrictions on, and reporting requirements for, the fishery.

Crab

The Commission set the total allowable catch level for the pot fishery for crab for the 2006/2007 fishing season at 1,600 tons and continued to limit participation to one vessel per member country conducted as an experimental harvest regime.

Squid

The Commission set the total allowable catch limit for the exploratory jig fishery for Martialia hyadesi for the 2006/2007 fishing season at 2,500 tons.

Krill

The Commission carried forward the precautionary catch limits for krill in Statistical Area 48 at 4.0 million tons overall and, as divided by subareas, at 1.008 million tons in Subarea 48.1, 1.104 million tons in Subarea 48.2, 1.056 million tons in Subarea 48.3, and 0.832 million tons in Subarea 48.4.

Dissostichus Species

The Commission set a combined catch limit of 3,554 tons for the longline and pot fisheries for D. eleginoides in the Shag Rocks and South Georgia areas of Subarea 48.3 in the 2006/2007 season. The Commission closed the West Shag Rocks area and set bycatch limits on other species.

The Commission set a combined catch limit of 2,427 tons of D. eleginoides in Division 58.5.2 west of 79°20′ E from December 1, 2006, to November 30, 2007, for trawl and pot fishing and from May 1, 2007, to August 31, 2007, for longline fishing. The Commission extended the season to September 30 for vessels which complete longline sink rate testing using CCAMLR testing protocols.

The Commission designated several Dissostichus fisheries as exploratory fisheries for the 2006/2007 fishing season. These fisheries are total allowable catch fisheries and are open only to the flagged vessels of countries that notified CCAMLR of an interest by named vessels to participate in the fisheries.

The exploratory fisheries for Dissostichus species authorized by the Commission for the 2006/2007 fishing season are: (1) longline fishing in Statistical Subarea 48.6 by no more than one vessel per country at any time by Japan, Republic of Korea, New Zealand and Norway; (2) longline fishing in Statistical Division 58.4.1 by Australia (one vessel), Republic of Korea (two vessels), Namibia (one vessel), New Zealand (three vessels), Spain (one vessel) and Uruguay (one vessel); (3) longline fishing in Statistical Division 58.4.2 by Australia (one vessel), Republic of Korea (three vessels), Namibia (one vessel), New Zealand (two vessels), Spain (one vessel) and Uruguay (one vessel); (4) longline fishing in Statistical Division 58.4.3a (the Elan Bank) outside areas under national jurisdiction to no more than one vessel per country at any time by Japan, Republic of Korea and Spain; (5) longline fishing in Statistical Division 58.4.3b (the BANZARE Bank) outside areas of national jurisdiction to no more than one vessel per country at any time by Australia, Republic of Korea, Namibia, Spain and Uruguay; (6) longline fishing in Statistical Subarea 88.1 by Argentina (two vessels), Republic of Korea (three vessels), New Zealand (four vessels), Norway (one vessel), Russia (two vessels), South Africa (one vessel), Spain (one vessel), United Kingdom (two vessels), and Uruguay (five vessels); and (7) longline fishing in Statistical Subarea 88.2 by Argentina (two vessels), New Zealand (four vessels), Norway (one vessel), Russia (two vessels), Spain (one vessel), United Kingdom (two vessels), and Uruguay (four vessels).

Environmental Protection

The Commission consolidated the environmental protection provisions of its annual fishery measures into a single conservation measure of continuing application. The new conservation measure applies to all directed fishing. These measures include provisions: (1) prohibiting the use on fishing vessels of plastic packaging bands to secure bait boxes; (2) prohibiting the use of other plastic packaging bands for other purposes on fishing vessels which do not use onboard incinerators (closed systems); (3) requiring packaging bands once removed from packages to be cut so that they do not form a continuous loop and then incinerated at the earliest opportunity in an onboard incinerator; (4) requiring that all plastic residue be stored on board the vessel until reaching port and in no case discarded at sea; (5) prohibiting vessels fishing south of 60° S from dumping or discharging: oil or fuel products or oily residues into the sea (except as permitted under Annex I of MARPOL 73/78), garbage, food wastes not capable of passing through a screen with openings no greater than 25 mm, poultry or parts (including egg shells), sewage within 12 n miles of land or ice shelves, sewage while the ship is traveling at speeds of less than 4 knots, offal or incineration ash. Live poultry or other living birds may not be brought into areas south of 60° S and any dressed poultry not consumed must be removed from those areas. Requirements in previously adopted conservation measures prohibiting or regulating the disharge of offal in areas of the Convention north of 60° S were retained in the measures on incidental mortality of seabirds and marine mammals in longlines and trawls.

Interim Prohibitions on the Use of Certain Gear

The Commission adopted a measure restricting the use of bottom trawling gear in the high seas areas within the Convention Area through the 2007/08 fishing season. The Scientific Committee will review scientific evidence available by 2007 in order to establish relevant criteria to determine the impacts of bottom trawl fishing on oceanic ecosystems and, in particular, vulnerable bottom marine ecosystems in the Convention Area. The Commission revised existing measures regulating new fisheries and exploratory fisheries to require approval by the Commission of new or exploratory bottom trawling fishing operations before such operations can occur within the Convention Area.

The Commission adopted a measure imposing an interim prohibition on the use of gillnets, for purposes other than scientific research, in the Convention Area. Gillnets are defined by the measure as strings of single, double or triple netting walls, vertical, near by the surface, in midwater or on the bottom, in which fish will gill, entangle or enmesh. Gillnets have floats on the upper line (headrope) and, in general, weights on the ground-line (footrope). Gillnets consist of single or less commonly, double or triple netting (known as “trammel net”) mounted together, on the same frame ropes. Several types of nets may be combined in one gear (for example, trammel net combined with gillnet). These nets can be used either alone or, as is more usual, in large numbers placed in line (“fleets” of nets). The gear can be set, anchored to the bottom or left drifting, free or connected with the vessel. The use of gillnets in the Convention Area is prohibited until the Scientific Committee has investigated and reported on the potential impacts of this gear.

Fishing Vessel Reporting

The Commission revised its measure on the licensing and inspection obligations of Contracting Parties to require that fishing vessels licensed by the Contracting Party report, where possible, sightings of fishing vessels and support vessels in the Convention Area. The report must include as much information as possible on the name and description of the vessel; the vessel call sign; the registration and Lloyd's/IMO number of the vessel; the Flag State of the vessel; photographs of the vessel to support the report; and any other information regarding the observed activities of the sighted vessel. The report must be forwarded by the master of the vessel licensed by the Contracting Party to its Flag State as soon as possible.

The Commission revised its measure on automated satellite-linked vessel monitoring systems to require that for vessels intending to enter an area of the Convention Area closed to fishing, or an area of the Convention Area for which it is not licensed to fish, the Flag State shall provide notification to the Secretariat of the vessel's intention. The Flag State may permit or direct that such notifications be provided by the vessel directly to the CCAMLR Secretariat.

Contracting Party Data Reporting

The Commission adopted a measure requiring that all Contracting Parties intending to fish for krill in the Convention Area notify the Secretariat no later than four months in advance of the regular annual meeting of the Commission, immediately prior to the season in which they intend to fish.

The Commission revised its measure on automated satellite-linked vessel monitoring systems to require that when the CCAMLR Secretariat receives VMS data that indicates the presence of a vessel (1) in an area or subarea for which no license details have been provided by the Flag State to the Secretariat, or (2) in any area or subarea for which the Flag State or fishing vessel has not provided prior notification, the Secretariat shall notify the Flag State and require an explanation. The explanation will be forwarded to the Secretariat for evaluation by the Commission at its next annual meeting.

Catch Documentation Scheme

The Commission revised its measure on the Catch Documentation Scheme (CDS) to include a procedure for cooperation with CCAMLR by non-Contracting Parties involved in the trade of Dissostichus species. The Commission also revised the CDS measure to clarify that only government officials may request and examine the documentation of each shipment of Dissostichus species imported into or exported from its territory to verify that it includes validated documents.

Illegal, Unregulated and Unreported Fishing

The Commission approved a combined list of Contracting Party Vessels and non-Contracting Party Vessels suspected of illegal, unregulated or unreported fishing or trading (the IUU Vessel List). A number of vessels on the combined IUU Vessel List have been identified on previous lists by other names and flags. The combined list is posted on the public section of the CCAMLR website (www.ccamlr.org). A vessel on the IUU Vessel List will not be permitted to participate in exploratory fisheries. Contracting Parties are urged to prohibit trade with the vessels on the CCAMLR IUU Vessel List.

The Commission revised the schemes to promote compliance by Contracting Party and non-Contracting Party vessels with CCAMLR conservation measures. As revised the schemes now require that Contracting Parties deny port access to vessels on the IUU Vessel List unless for the purpose of enforcement action or for reasons of force majeure or for rendering assistance to vessels, or persons on those vessels, in danger or distress. Vessels allowed entry to a Contracting Party port are to be inspected in accordance with CCAMLR conservation measures on inspection. Where port access is granted to such vessels Contracting Parties are required to examine documentation and other information, including Dissostichus Catch Documents, with a view to verifying the area in which the catch was taken. Where the origin of the catch cannot be adequately verified, Contracting Parties are required to detain the catch or refuse any landing or transshipment of the catch. When catch is found to be in contravention of CCAMLR conservation measures, Contracting Parties should, where possible, confiscate the catch; and prohibit all support to vessels with such catch, including non-emergency refueling, resupplying and repairs.

The Commission adopted a new scheme to promote compliance by Contracting Party nationals with CCAMLR conservation measures. The scheme requires Contracting Parties to take appropriate measures to verify if any natural or legal persons subject to their jurisdiction are engaged in IUU fishing activities and take appropriate actions, including seeking cooperation by industries within their jurisdiction. Contracting Parties are required to submit reports on actions taken with respect to the scheme to the CCAMLR Secretariat and to Contracting Parties and non-Contracting Parties cooperating with CCAMLR for purposes of implementing the CDS. The scheme will be binding on Contracting Parties beginning July 1, 2008.

The Commission adopted a resolution urging Contracting Parties to pursue diplomatic and other actions with non- Contracting Parties to combat IUU fishing.

Authority: 16 U.S.C. 2431 et seq.

Dated: March 14, 2007.
William T. Hogarth,
Assistant Administrator for Fisheries, National Marine Fisheries Service.

[FR Doc. E7-5050 Filed 3-19-07; 8:45 am]

BILLING CODE 3510-22-S